DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments concerning proposed revisions to existing electric power survey forms, the creation of new forms, and a three-year extension to December 31, 2004, approval for all EIA electric power surveys. EIA's current electric power surveys are:

Form EIA-411, “Coordinated Bulk Power Supply Program Report,”

Form EIA-412, “Annual Report of Public Electric Utilities,”

Form EIA-417R, “Electric Power Systems Emergency Report,”

Form EIA-826, “Monthly Electric Utility Sales and Revenue Report with State Distributions,”

Form EIA-860A, “Annual Electric Generator Report—Utility,”

Form EIA-860B, “Annual Electric Generator Report—Nonutility,”

EIA-861, “Annual Electric Utility Report,” and

Form EIA-906, “Power Plant Report” (which replaced Forms EIA-759 and EIA-900 beginning with the reporting of January 2001 information).

EIA is proposing the changes outlined in this notice. The changes will result in the electric power survey forms listed below:

Form EIA-411, “Coordinated Bulk Power Supply Program Report,”

Form EIA-412 “Annual Electric Industry Financial Report,”

Form EIA-423, “Cost and Quality of Fuels for Electric Plants,”

Form EIA-826, “Monthly Electric Sales and Revenue Report with State Distributions,”

Form EIA-860, “Annual Electric Generator Report” (combined Forms EIA-860A and EIA-860B),

Form EIA-861, “Annual Electric Power Industry Report,” and

Form EIA-906, “Power Plant Report.”

Form EIA-417R is not included in EIA's electric power surveys package for this comment request. Form EIA-417R will be included in a future separate Federal Register notice.

DATES: Written comments must be filed on or before May 14, 2001. If you anticipate difficulty in submitting comments within that period, contact the person listed below as soon as possible.

ADDRESSES: Send comments to John G. Colligan, Energy Information Administration, Electric Power Division, EI-53.1, U.S. Department of Energy, Washington, DC 20585-0650. Alternatively, John Colligan may be contacted by telephone at (202) 287-1756, FAX at (202) 287-1946, or by e-mail at jcolliga@eia.doe.gov.

FOR FURTHER INFORMATION CONTACT: Requests for additional information or copies of forms and instructions should be directed to John Colligan at the address listed above. All of the proposed forms are available on EIA's web site: http://www.eia.doe.gov/fuelelectric.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(a) of the Paperwork Reduction Act of 1995.

The EIA collects information about the electric power industry for use by government and private sector analysts. The survey information are disseminated in a variety of publications, electronic products, and electronic data files. For details on EIA's electric power information program, please visit EIA's web site at http://www.eia.doe.gov/fuelelectric.html.

II. Current Actions

The EIA will request OMB approval of: (a) a three-year extension, through December 31, 2004, for all the forms listed, and (b) modifications to the specific forms described below. The proposed changes EIA is requesting through this action reflect the increasingly competitive nature of the electric power industry as a whole and the power generators in particular. EIA recognizes that its information collections must continue to adapt as the industry changes. Elements associated with distributed generation are not included on current forms at this time. A final decision regarding the collection of this information has not been made, and the elements may be included in EIA's final proposal.

EIA has completed an extensive review and update of the electric power survey collection series. The forms presented here are the result of that task which includes input from all sectors of the electric power industry. Electric generation and sales are continuing the trend toward open competition. The degree of competition is not uniform throughout the country at this time, but continues to grow sporadically, as reported by the EIA electric power data suppliers. With the increase in competition among generators there is a corresponding increase in the need for protection from disclosure of individually-identifiable commercially sensitive information. Along with the forms changes, the EIA is proposing a revision to the commercially sensitive data elements collected on EIA's electric power forms which will be treated as confidential.

As a means of improving its electric power surveys to reflect the changing industry, EIA proposes the following changes.

Form EIA-411, “Coordinated Bulk Power Supply Program Report.” The most important change to the Form EIA-411 is the expansion of the data collected on transmission assets. Specifically, Item 6, Proposed Bulk Electric Transmission Line Additions, has been replaced with Schedule 6, Proposed Electric Transmission Asset Data. The new schedule collects 10 additional data elements on planned transmission lines (Part A), 10 new data elements on planned substations (Part B), and five new data elements on other transmission facilities (Part C). Four data elements were added to Schedule 3, Parts B and D, collecting information on existing and planned generating capacity (Parts B and D, respectively). Together, these represent a net addition of 29 data elements on the Form EIA-411. Respondents also will be asked to provide a transmission system schematic, in addition to the transmission system map already required. The form and instructions will be modified to show these changes.

Form EIA-412 “Annual Report of Public Electric Utilities,” will be renamed “Annual Electric Industry Financial Report,” to reflect the new requirement that unregulated power producers will also provide annual plant cost data on Schedule 10, Large Electric Generating Plant Statistics. On Schedule 1, one element was deleted. Schedule 10 combines the old Schedules X and XI that collected similar data from steam-electric and hydroelectric plants, respectively. The scope of the survey also has been broadened to include all steam-electric generators with an electric generator nameplate rating of 25,000 kilowatts (kW) or larger, and gas-turbine and hydro plants with a nameplate rating of 10,000 kW or larger.

Also of significance are the changes proposed for the collection of transmission asset data on the Form EIA-412. Schedule 12 has been deleted and replaced with Schedule 11 to collect transmission line, substation, and other transmission facility information. This new schedule will collect existing and added (within the last year) asset information. Included in the “added” asset information will be cost data. By deleting the current Schedule 12, eight data elements will be eliminated. The new Schedule 11 will consist of six sections as shown below:

—Existing Transmission Line Information, Part A—18 data elements;

—Existing Substation Information, Part B—10 data elements;

—Existing Other Transmission Facility Information, Part C—6 data elements;

—Added Within Last Year Transmission Line Information, Part D—24 data elements;

—Added Within Last Year Substation Information, Part E—12 data elements; and

—Added Within Last Year Other Transmission Facility Information, Part F—10 data elements.

As a result of these actions, the overall net change for the Form-412 is an increase of about 35 data elements. The form and instructions will be modified to show these changes.

Form EIA-423, “Cost and Quality of Fuels for Electric Plants,” is a new EIA electric power survey form. Currently, the Federal Energy Regulatory Commission (FERC) collects information on fuels received by electric plants subject to FERC jurisdiction. EIA proposes to collect monthly information on fossil fuels from electric plants not reporting on FERC Form 423. The data to be collected includes the cost and quality of fossil fuels delivered for the generation of electric power by unregulated generators, and from all non-steam regulated generators with a nameplate capacity of 50 megawatts or greater.

Form EIA-826, “Monthly Electric Utility Sales and Revenue Report with State Distributions,” will be renamed “Monthly Electric Sales and Revenue Report with State Distributions.” The form and instructions will be modified to show these changes.

Form EIA-860A, “Annual Electric Generator Report—Utility,” will be replaced with Form EIA-860, “Annual Electric Generator Report.”

Form EIA-860B, “Annual Electric Generator Report—Nonutility,” will be replaced with Form EIA-860, “Annual Electric Generator Report.”

Form EIA-860, “Annual Electric Generator Report,” will be a new form merging all information currently collected on Form EIA-860A and portions of the Form EIA-860B. As a result of combining these forms, there is a net decrease of four data elements. Respondents will include all electric generators over 1 megawatt. The form and instructions will be modified to show these changes.

Form EIA-861, “Annual Electric Utility Report,” will be renamed “Annual Electric Power Industry Report.” The change in the survey name more accurately reflects the current industry structure. On Schedule 1, two elements pertaining to the identification of the company were deleted. Two elements with respect to the North American Electric Council will be combined as one, eliminating one element on Schedule 2, Part A. On the changed form Schedule 2B, Sources and Disposition, will be completed by companies in both the regulated and unregulated sectors of the electric power industry. Two data elements are being added to Schedule 3, revenue from unbundled customers and cost of wholesale purchases. Two additional data elements pertaining to “price responsive” customer load have been added to Schedule 5, Demand-Side Management. One data element related to the term of requirement contracts was deleted from Schedule 2A. The form and instructions will be modified to show these changes.

Form EIA-906, “Power Plant Report,” is a new form in 2001 that replaced the Form EIA-759, “Monthly Power Plant Report,” and Form EIA-900 “Monthly Nonutility Sales for Resale Report.” The Form EIA-906 combined and incorporated data elements from both the Form EIA-759 and the Form EIA-900. No further revisions are planned to Form EIA-906 at this time.

With regard to confidential treatment of information reported to EIA on the electric power surveys, EIA is proposing changes in certain elements that will be treated as confidential and not released in individually-identifiable form. As the level of generation competition increases, so does the concern for the disclosure of confidential data. EIA is aware of these concerns regarding full disclosure of trade secrets and proprietary information. EIA is continuously monitoring the industry through the electric power survey system. Based on EIA's review of the industry and the changing competitive environment, EIA is proposing to increase the number of electric power survey elements that will be treated as confidential. Following are the data elements that will be treated as confidential across all EIA electric power surveys beginning in 2002 and will not be disclosed in individually-identifiable form. (Elements that are currently treated as confidential by EIA are marked by asterisks.)

a—Planned equipment*, planned plant changes*, planned retirement dates*, and fuel projections*;

b—Heat rates*;

c—Fuel consumption, quantity, quality, and cost;

d—Sales for resale, wholesale;

e—Sales to end user*;

f—Retail sales, revenues and numbers of customers;

g—Financial data;

h—Fuel stocks/inventory*;

i—Thermal output;

j—Cost of purchase power.

The individual forms and instructions will address the specific data elements for each survey that will be treated as confidential.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for each collection is estimated and shown below as an average hour(s) per response. The estimated burden includes the total time necessary to provide the requested information. In your opinion, how accurate are these new estimates?

—Form EIA-411, “Bulk Power Supply Program Report,”—16.15 hours per response (previous estimate was 20.00 hours);

—Form EIA-412 “Annual Electric Industry Financial Report Utilities,”

—32.30 hours per response (previous estimate was 30.30 hours);

—Form EIA-423, “Cost and Quality of Fuels for Electric Plants.”—2.00 hours per response (new form);

—Form EIA-826, “Monthly Electric Sales and Revenue Report with State Distributions,”—1.50 hours per response (previous estimate was 1.40 hours);

—Form EIA-860, “Annual Electric Generator Report,”—16.12 hours per response (previous estimate was 15.00 hours for Form EIA-860A and 2.12 hours for Form EIA-860B);

—Form EIA-861, “Annual Electric Power Industry Report.”—7.30 hours per response (previous estimate was 7.50 hours); and

—Form EIA-906, “Power Plant Report.”—1.40 hours per response (previous estimate was 1.40 hours for EIA-759 and 0.50 hours for Form EIA-900).

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Sections 3506(c)(2)(A) and 3507(h)(1) of the Paperwork Reduction Act of 1995 (Pub. L. No. 104-13, 44 U.S.C. Chapter 35).

Issued in Washington, DC, March 7, 2001.
Jay H. Casselberry,
Agency Clearance Officer, Statistics and Methods Group, Energy Information Administration.

[FR Doc. 01-6139 Filed 3-12-01; 8:45 am]

BILLING CODE 6450-01-P